DEPARTMENT OF THE INTERIOR

National Park Service

National Register of Historic Places; Notification of Pending Nominations

Nominations for the following properties being considered for listing in the National Register were received by the National Park Service before November 18, 2000. Pursuant to section 60.13 of 36 CFR Part 60 written comments concerning the significance of these properties under the National Register criteria for evaluation may be forwarded to the National Register, National Park Service, 1849 C St. NW, NC400, Washington, DC 20240. Written comments should be submitted by December 12, 2000.

Carol D. Shull,
Keeper of the National Register.

Arizona

Maricopa County

Windsor Square Historic District, Roughly bounded by 7th St., Camelback Rd., Central St., and Oregon Ave., Phoenix, 00001499

Colorado

Jefferson County

Rio Grande Southern Railroad Engine No. 20, 17155 West 44th Ave., Golden, 00001500

Connecticut

Hartford County

Canty, Marietta, House, 61 Mahl Ave., Hartford, 00001536

Florida

Escambia County

James House, 1606 N. Martin Luther King Blvd., Pensacola, 00001501

Leon County

Chaires Community Historic District, Roughly along Chaires Cross Rd., Road to the Lake, and Hancock St., Chaires, 00001502

Maryland

Howard County

Montrose, 13370 Brighton Dam Rd., Clarksville, 00001506

Prince George's County

Chapel of the Incarnation, 14070 Brandywine Rd., Brandywine, 00001505

St. Thomas' Church, 14300 St. Thomas Church Rd., Upper Marlboro, 00001504

Queen Anne's County

Collins, Jackson, House, 201 S. Commerce St., Centreville, 00001503

Minnesota

Carver County

Heck, Albertine and Fred, House, 8941 Audobon Rd., Chanhassen, 00001508

Nicollet County

Montgomery, Sarah and Thomas, House, 408 Washington Ave. S, St. Peter, 00001509

Schumacher, Emily and Stephen, House, 202 3rd St. N, St. Peter, 00001507

Mississippi

Warren County

Waterways Experiment Station, Roughly bounded by Spillway, Durden Creek, Tennessee Rd., and Dam Spillway, Vicksburg, 00001511

Missouri

Cole County

Lincoln University Hilltop Campus Historic District (Boundary Increase I), 820 Chestnut St., Jefferson City, 00001513

St. Louis Independent City

Carr School, (St. Louis Public Schools of William Bittner MPS AD) 1419 Carr St., St. Louis (Independent City), 00001512

Montana

Deer Lodge County

Anaconda Street Railway Barn, (Anaconda MPS) 922 West Third, Anaconda, 00001515

Branscombe Automobile Machine Shop, (Anaconda MPS) 125 West Commercial, Anaconda, 00001522

Collins, James V., House, (Anaconda MPS) 422 West Third St., Anaconda, 00001521

Glover Cabin, (Anaconda MPS) Washoe Park, Anaconda, 00001524

Granite Apartments, (Anaconda MPS) 214 E. Third St., Anaconda, 00001517

Lorraine Apartments, (Anaconda MPS) 218 East Third, Anaconda, 00001520

Mitchell, Willard E., Stadium, (Anaconda MPS) 1100 Blk of W. Fifth St., Anaconda, 00001518

New Brunswick House, The, (Anaconda MPS) 325 East Front, Anaconda, 00001514

Sheehan Boardinghouse, (Anaconda MPS) 412 E. Third St., Anaconda, 00001519

Missoula County

University Area Historic District, Roughly bounded by S 4th East St., Beckwith Ave., Arthur Ave., and Higgins Ave., Missoula, 00001523

New Jersey

Burlington County

Budd, J.F., Baby Shoe Factory, 231 Penn Ave., Burlington City, 00001525

Essex County

Ahavas Sholom, 145 Broadway, Newark, 00001530

New York

Delaware County

Bristol, Amos, Tavern, Cty Rte. 14, West Meredith, 00001526

Essex County

Keene Valley Library, Main St., Keene Valley, 00001528

Orange County

Tuxedo Park Railroad Station, NY 17, Tuxedo, 00001529

Washington County

Fort Edward D&H Train Station, East and Wing Sts., Fort Edward, 00001527

South Carolina

Bamberg County

Mizpah Methodist Church, Jct. of U.S. 301 and S-5-31, Olar, 00001531

Texas

Dallas County

Medical Dental Building, (Oak Ridge MPS) 300 Blk. of West Jefferson Blvd., Dallas, 00001537

Falls County

Falls County Courthouse, 1 Courthouse Sq, Marlin, 00001532

Wisconsin

La Crosse County

10th and Cass Streets Neighborhood Historic District, Roughly bounded by Main St., S. 11th St., Cameron Ave., and S 8th St., La Crosse, 00001534

Polk County

Minneapolis, St. Paul and Sault Saint Marie Railway Depot, 114 Depot Rd., Osceola, 00001535

Osceola Commercial Historic District, Roughly along Cascade St., from First Ave. to Third Ave., Osceola, 00001533

[FR Doc. 00-30151 Filed 11-24-00; 8:45 am]

BILLING CODE 4310-70-P